DEPARTMENT OF ENERGY

Federal Energy Regulatory Commission

Combined Notice of Filings

Take notice that the Commission has received the following Natural Gas Pipeline Rate and Refund Report filings:

Docket Number: PR21-31-000.

Applicants: Southcross CCNG Transmission Ltd.

Description: Tariff filing per 284.123(b),(e)+(g): Revision to Statement of Operating Conditions to be effective 2/22/2021.

Filed Date: 2/22/2021.

Accession Number: 202102225074

Comments Due: 5 p.m. ET 3/15/2021

284.123(g) Protests Due: 5 p.m. ET 4/23/2021.

Docket Numbers: RP21-509-000.

Applicants: Golden Pass Pipeline LLC.

Description: Golden Pass Pipeline LLC submits tariff filing per 154.203: GPPL Annual Retainage Report for 2021 to be effective 4/1/2021.

Filed Date: 02/23/2021.

Accession Number: 20210223-5118.

Comment Date: 5 p.m. ET 3/8/2021.

Docket Numbers: RP21-510-000.

Applicants: Vector Pipeline L.P.

Description: Vector Pipeline L.P. submits tariff filing per 154.204: Negotiated Rate Filing—BWEC to be effective 3/1/2021.

Filed Date: 02/23/2021.

Accession Number: 20210223-5145.

Comment Date: 5 p.m. ET 3/8/2021.

Docket Numbers: RP21-511-000.

Applicants: El Paso Natural Gas Company, L.L.C.

Description: El Paso Natural Gas Company, L.L.C. submits tariff filing per 154.204: Negotiated Rate Agreements Filing (Sempra_Marathon) to be effective 4/1/2021.

Filed Date: 02/23/2021.

Accession Number: 20210223-5178.

Comment Date: 5 p.m. ET 3/8/2021.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2021.
Kimberly D. Bose,
Secretary.

[FR Doc. 2021-04258 Filed 3-1-21; 8:45 am]

BILLING CODE 6717-01-P